DEPARTMENT OF TRANSPORTATION

Federal Motor Carrier Safety Administration

49 CFR Parts 350, 360, 365, 373, 380, 382, 383, 384, 385, 387, 390, 393, 395, 396, 397, and 398

RIN 2126-AC06

General Technical, Organizational, Conforming, and Correcting Amendments to the Federal Motor Carrier Safety Regulations

AGENCY: Federal Motor Carrier Safety Administration (FMCSA), DOT.

ACTION: Final rule.

SUMMARY: FMCSA amends its regulations by making technical corrections throughout the Federal Motor Carrier Safety Regulations. The Agency makes minor changes to correct inadvertent errors and omissions, remove or update obsolete references, ensure conformity with Office of the Federal Register style guidelines, and improve the clarity and consistency of certain regulatory provisions.

DATES: This rule is effective June 18, 2018.

FOR FURTHER INFORMATION CONTACT: Mr. David Miller, Federal Motor Carrier Safety Administration, Regulatory Development Division, 1200 New Jersey Avenue SE, Washington, DC 20590-0001, by telephone at (202) 366-5370 or via email at david.miller@dot.gov. Office hours are from 9:00 a.m. to 5:00 p.m. e.t., Monday through Friday, except Federal holidays.

SUPPLEMENTARY INFORMATION:

I. Legal Basis for the Rulemaking

Congress delegated certain powers to regulate interstate commerce to the United States Department of Transportation (DOT or Department) in numerous pieces of legislation, most notably in section 6 of the Department of Transportation Act (DOT Act) (Pub. L. 89-670, 80 Stat. 931, Oct. 15, 1966). Section 6 of the DOT Act transferred to the Department the authority of the former Interstate Commerce Commission (ICC) to regulate the qualifications and maximum hours-of-service of employees, the safety of operations, and the equipment of motor carriers in interstate commerce. This authority, first granted to the ICC in the Motor Carrier Act of 1935 (Pub. L. 74-255, 49 Stat. 543, Aug. 9, 1935), now appears in 49 U.S.C. chapter 315. The regulations issued under this (and subsequently enacted) authority became known as the Federal Motor Carrier Safety Regulations (FMCSRs), codified at 49 CFR parts 350-399. The administrative powers to enforce chapter 315 (codified in 49 U.S.C. chapter 5) were also transferred from the ICC to the DOT in 1966 and assigned, first to the Federal Highway Administration (FHWA), and then to FMCSA. The FMCSA Administrator has been delegated authority under 49 CFR 1.87 to carry out the motor carrier functions vested in the Secretary of Transportation.

Between 1984 and 1999, a number of statutes added to FHWA's authority. Various statutes authorize the enforcement of the FMCSRs, the Hazardous Materials Regulations (HMRs), and the Commercial Regulations, and provide both civil and criminal penalties for violations of these requirements. These statutes include the Motor Carrier Safety Act of 1984 (MCSA) (Pub. L. 98-554, 98 Stat. 2832, Oct. 30, 1984), codified at 49 U.S.C. chapter 311, subchapter III; the Commercial Motor Vehicle Safety Act of 1986 (Pub. L. 99-570, 100 Stat. 3207-170, Oct. 27, 1986), codified at 49 U.S.C. chapter 313; the Hazardous Materials Transportation Uniform Safety Act of 1990, as amended (Pub. L. 101-615, 104 Stat. 3244, Nov. 16, 1990), codified at 49 U.S.C. chapter 51; and the ICC Termination Act of 1995 (ICCTA) (Pub. L. 104-88, 109 Stat. 803, Dec. 29, 1995), codified at 49 U.S.C. chapters 131-149.

The Motor Carrier Safety Improvement Act of 1999 (MCSIA) (Pub. L. 106-159, 113 Stat. 1748, Dec. 9, 1999) established FMCSA as a new operating administration within DOT, effective January 1, 2000. The motor carrier safety responsibilities previously assigned to both the ICC and FHWA are now assigned to FMCSA.

Congress expanded, modified, and amended FMCSA's authority in the Uniting and Strengthening America by Providing Appropriate Tools Required to Intercept and Obstruct Terrorism (USA PATRIOT) Act of 2001 (Pub. L. 107-56, 115 Stat. 272, Oct. 26, 2001); the Safe, Accountable, Flexible, Efficient Transportation Equity Act: A Legacy for Users (SAFETEA-LU) (Pub. L. 109-59, 119 Stat. 1144, Aug. 10, 2005); the SAFETEA-LU Technical Corrections Act of 2008 (Pub. L. 110-244, 122 Stat. 1572, June 6, 2008); the Moving Ahead for Progress in the 21st Century Act (MAP-21) (Pub. L. 112-141, 126 Stat. 405, July 6, 2012); and the Fixing America's Surface Transportation Act (FAST Act) (Pub. L. 114-94, 129 Stat. 1312, Dec. 4, 2015).

The specific regulations amended by this rule are based on the statutes detailed above. Generally, the legal authority for each of those provisions was explained when the requirement was originally adopted and is noted at the beginning of each part in title 49 of the CFR.

The Administrative Procedure Act (APA) (5 U.S.C. 551-706) specifically provides exceptions to its notice and comment rulemaking procedures when the Agency finds there is good cause to dispense with them, and incorporates the finding and a brief statement of reasons therefore in the rules issued. Generally, good cause exists when the Agency determines that notice and public procedures are impractical, unnecessary, or contrary to the public interest (5 U.S.C. 553(b)(3)(B)). The amendments made in this final rule merely correct inadvertent errors and omissions, remove or update obsolete references, ensure conformity with Office of the Federal Register style guidelines, and make minor changes to improve clarity and consistency. The technical amendments do not impose any material new requirements or increase compliance obligations. For these reasons, FMCSA finds good cause that notice and public comment on this final rule are unnecessary.

The APA also allows agencies to make rules effective immediately with good cause (5 U.S.C. 553(d)(3)), instead of requiring publication 30 days prior to the effective date. For the reasons already stated, FMCSA finds there is good cause for this rule to be effective immediately.

FMCSA is aware of the regulatory requirements concerning public participation in FMCSA rulemaking (49 U.S.C. 31136(g)). These requirements pertain to certain major rules,¹ but, because this final rule is not a major rule, they are not applicable. In any event, the Agency finds that publication of an advance notice of proposed rulemaking under 49 U.S.C. 31136(g)(1)(A), or a negotiated rulemaking under 49 U.S.C. 31136(g)(1)(B), is unnecessary and contrary to the public interest in accordance with the waiver provision in 49 U.S.C. 31136(g)(3).

¹ A “major rule” means any rule that the Administrator of the Office of Information and Regulatory Affairs of the Office of Management and Budget finds has resulted in or is likely to result in (a) an annual effect on the economy of $100 million or more; (b) a major increase in costs or prices for consumers, individual industries, Federal, State, or local government agencies, or geographic regions; or (c) significant adverse effects on competition, employment, investment, productivity, innovation, or on the ability of United States-based enterprises to compete with foreign-based enterprises in domestic and export markets 5 U.S.C. 804(2)). Exception: The term “major rule” does not include any rule promulgated under the Telecommunications Act of 1996 and the amendments made by that Act.

II. Background

This document makes changes to correct inadvertent errors and omissions, remove or update obsolete references, ensure conformity with Office of the Federal Register style guidelines, and improve clarity and consistency. These amendments, however, do not impose any material new requirements. The reasons for each of these minor revisions are described below in the Section-by-Section Analysis.

III. Section-by-Section Analysis

This section-by-section analysis describes the technical amendment provisions in numerical order.

A. Part 350

Section 350.105 What definitions are used in this part?

FMCSA adds a definition of “New Entrant Safety Audits” to § 350.105. On October 14, 2016 (81 FR 71002, 71010), FMCSA made various amendments to § 350.105 to ensure the section was current and consistent with the requirements of the FAST Act, enacted on December 4, 2015. Inadvertently, the definition for “New Entrant Safety Audits” was not included in the amendatory language—the description of a rule that immediately precedes each change—though it was included in the regulatory text itself. This addition corrects this oversight.

Section 350.335 What are the consequences if a state has laws or regulations incompatible with the federal regulations?

FMCSA corrects the introductory text for paragraph (a) by changing a cross reference incorrectly given as “49 CFR 320.215” to read “49 CFR 350.215.” This error originally appeared in a rule FMCSA published to conform part 350 to the FAST Act on October 14, 2016 (81 FR 71015). This amendment corrects that error.

B. Part 360

Section 360.1T Fees for Registration-Related Services

FMCSA changes § 360.1T to correct the name of the office and routing code of the “Office of Data Analysis and Information Systems” to read the “Office of Registration and Safety Information (MC-RS)” in paragraphs (a) and (d)(2). This change reflects the current name of the office with those responsibilities. Section 360.1 (suspended) does not require a corresponding change.

Section 360.3T Filing Fees

In § 360.3T, paragraphs (a)(2) introductory text and (a)(2)(iii), FMCSA removes the references to “Office of Enforcement and Compliance, Insurance Compliance Division (MC-ECI).” In their place, FMCSA adds references to the “Office of Registration and Safety Information (MC-RS).” In paragraphs (e)(2)(i) and (e)(2)(iii), FMCSA removes the references to “Director, Office of Data Analysis and Information Systems” and replaces them with references to the “Director, Office of Registration and Safety Information (MC-RS).” This change reflects the current name of the office with those responsibilities. Section 360.3 (suspended) refers to the office correctly.

C. Part 365

Section 365.403T Definitions

FMCSA changes § 365.403T(a), which defines “transfer,” to remove the footnote as originally drafted by the former ICC and, instead, make it part of the CFR text. This amendment makes the former footnote paragraph (a)(2). This footnote has been part of the rule text since it was originally published on February 18, 1988 (52 FR 4852). The footnote further describes what is meant by a transfer, and contains exceptions. It should properly be part of the regulatory text. Section 365.403 (suspended) does not require a corresponding change.

D. Part 373

Section 373.103 For-Hire, Non-Exempt Expense Bills

FMCSA reorganizes § 373.103 to number the undesignated paragraphs following paragraphs (a)(11) and (b)(11). The Agency redesignates current paragraphs (a)(1) through (11) as paragraphs (a)(1)(i) through (xi) and the undesignated paragraph as (a)(2). Paragraphs (b)(1) through (11) are redesignated as paragraphs (b)(1)(i) through (xi) and the undesignated paragraph becomes paragraph (b)(2). Though these undesignated paragraphs have been part of the rule since it was added by the ICC as 49 CFR 1051.2 on March 27, 1990 (55 FR 11198), undesignated paragraphs are contrary to the style of the Office of the Federal Register, which requires that all text in a section be designated.²

² Document Drafting Handbook, Office of the Federal Register, National Archives and Records Service, updated May 2017. Page 3-31

E. Part 380

Section 380.107 General Requirements

FMCSA corrects the reference to “appendix” in paragraph (a) to refer to “Appendix F.” On December 8, 2016 (81 FR 88794), FMCSA redesignated the existing appendix to part 380 as Appendix F, but failed to correct all the cross references to the appendix. This amendment corrects that oversight.

Section 380.109 Driver Testing

In § 380.109, published March 30, 2004 (69 FR 16733), the Agency makes a number of corrections. FMCSA corrects the references to “appendix” in paragraphs (a)(1), (a)(5), (a)(6), and (a)(7) to refer to “Appendix F.” On December 8, 2016 (81 FR 88794), FMCSA redesignated the existing appendix to part 380 as Appendix F, but failed to correct all the cross references to the appendix.

FMCSA also removes paragraph (d), which references the “Examiner's Manual for Commercial Driver's License Tests.” This American Association of Motor Vehicle Administrators (AAMVA) publication is intended for use by the States, and is not available to the general public.

Section 380.201 General Requirements

FMCSA corrects references to “appendix” in paragraphs (a) introductory text and (b) to read “Appendix F.” On December 8, 2016 (81 FR 88794), FMCSA redesignated the existing appendix to part 380 as Appendix F, but failed to correct all the cross references to the appendix.

Section 380.203 LCV Doubles

FMCSA corrects the references to “appendix” in paragraph (b) to read “Appendix F.” On December 8, 2016 (81 FR 88794), FMCSA redesignated the existing appendix to part 380 as Appendix F, but did not change all the cross references to the appendix.

Section 380.205 LCV Triples

FMCSA corrects the references to “appendix” in paragraph (b) to read “Appendix F.” On December 8, 2016 (81 FR 88794), FMCSA redesignated the existing appendix to part 380 as Appendix F, but failed to correct all the cross references to the appendix.

Section 380.303 Substitute for Instructor Requirements

FMCSA corrects the references to “appendix” in paragraph (a) to read “Appendix F.” On December 8, 2016 (81 FR 88794), FMCSA redesignated the existing appendix to part 380 as Appendix F, but failed to correct all the cross references to the appendix.

Subpart E—Entry-Level Driver Training Requirements Before February 7, 2020

FMCSA changes the heading of subpart E of part 380 to read: “Subpart E—Entry-Level Driver Training Requirements Before February 7, 2020.” On December 8, 2016 (81 FR 88790), FMCSA attempted to change the heading of subpart E of part 380; however, the Office of the Federal Register could not incorporate the amendment into the CFR due to an inaccurate amendatory instruction. This corrects that error. The sections of subpart E, §§ 380.501 to 380.513, were not modified by that rulemaking.

Section 380.605 Definitions

FMCSA reorganizes § 380.605 to make the numbering conform to the style required by the Office of the Federal Register using Arabic numbers rather than the small Roman numerals used in the December 8, 2016 (81 FR 88790-91), final rule. The Office of the Federal Register recommends to not designate paragraphs and introductory phrases, such as was used for (a) and (b) on page 88790. FMCSA has removed paragraph designations (a) and (b), so that the information is now in an undesignated introductory paragraph.

In the definitions for “Behind-the-wheel (BTW) instructor,” and “Theory instructor,” FMCSA also amends the paragraphs that begin “Exception,” to show that they are actually applicable to subordinate paragraphs (1) and (2), not just subordinate paragraph (2). The Agency inadvertently made this error when these two definitions were added, but the preamble to the December 8, 2016, final rule made this fact clear at 81 FR 88775.

Section 380.713 Instructor Requirements

FMCSA revises § 380.713 to correct several grammatical errors. No substantive changes are made.

Appendix A to Part 380—Class A—CDL Training Curriculum

FMCSA corrects Units A1.2.7 and A1.5.6 by removing small, typographical errors and grammatical mistakes. FMCSA added Appendix A as part of the entry-level driver training rule on December 8, 2016 (81 FR 88794).

Appendix B to Part 380—Class B—CDL Training Curriculum

FMCSA corrects Appendix B by changing a heading, incorrectly numbered as “Unit 1.3,” to correctly read “Unit B1.1.3 Pre- and Post-Trip Inspections.” Appendix B to Part 380 was added December 8, 2016 (81 FR 88797).

F. Part 382

Section 382.403 Reporting of Results in a Management Information System

In § 382.403(e), FMCSA adds the phrase “as defined in 49 CFR 382.107.” FMCSA wants to clarify that “Designated employer representative” is a specific term defined in § 382.107.

G. Part 383

Section 383.5 Definitions

In § 383.5, FMCSA changes the definition of “Conviction” to correct the last word of the entry to read “probated,” rather than “prorated,” to correct an error introduced in an October 2, 2014 technical amendment (79 FR 59451, 59455-56). FHWA published its revised definition of “Conviction” on October 4, 1988 (53 FR 39050). It was based on Section 6-205(c) of the Uniform Vehicle Code [1987] as adopted by the Legal Services Committee of AAMVA, and read: “Conviction means . . . regardless of whether or not the penalty is rebated, suspended, or probated.”

Section 383.23 Commercial Driver's License

FMCSA amends footnote 1 to § 383.23(b)(1). The commercial drivers' license reciprocity memorandum of understanding (MOU) between the United States and Mexico was amended effective January 19, 2017; therefore, FMCSA updates the footnote to reflect the date of the amended MOU.

Section 383.73 State Procedures

FMCSA changes § 383.73(b)(8) by removing a cross reference to § 383.71(b)(1)(i). This corrects a typographical error that was inadvertently and incorrectly added to the paragraph.

H. Part 384

Section 384.301 Substantial Compliance—General Requirements

FMCSA adds a new paragraph (k) to § 384.301 to provide the date a State must come into substantial compliance with the provisions of the Minimum Training Requirements for Entry-Level Commercial Motor Vehicle Operators rule. On December 8, 2016 (81 FR 88803), this final rule inadvertently added a new paragraph (j) to § 384.301. Because there was an existing paragraph (j), the Office of the Federal Register could not make that addition. To correct that mistake, FMCSA adds the paragraph as § 384.301(k).

I. Part 385

Section 385.203 What are the requirements to obtain and maintain certification?

In paragraph (c), FMCSA corrects the address where the public may obtain hard copies of its training, performance, and maintenance of certification/qualification requirements.

Appendix B to Part 385—Explanation of Safety Rating Process

FMCSA corrects Appendix B to Part 385 by updating the section citations and text relating to §§ 382.309 and 382.605 in section VII, List of Acute and Critical Regulations. On December 19, 2000, the Department revised its drug and alcohol testing regulations set forth in 49 CFR part 40 (65 FR 79462). On August 17, 2001, FMCSA amended its drug testing rules in 49 CFR part 382 to conform to the new requirements contained in part 40. FMCSA explained that employers and employees affected by part 382 have always been required to adhere to parts 40 and 382 to comply with FMCSA's drug and alcohol testing requirements. The rule referred the reader directly to part 40 instead of duplicating part 40 rule text in part 382 to promote drafting economy and consistency of interpretation (66 FR 43097). As such, the rule removed all the prior text from §§ 382.309 and 382.605 and, instead, incorporated by reference the appropriate provisions of part 40 (66 FR 43109, 43113). The references to §§ 382.309 and 382.605 in section VII, however, were not updated to reflect the revised section citations or direct the reader to the applicable provisions in part 40. The following changes correct those errors.

Paragraphs (a) and (b) of § 382.309 are deleted and replaced by a new § 382.309 that combines the return-to-duty testing provisions set forth previously in paragraphs (a) and (b) and directs the reader to their location in part 40. Paragraph (c)(1) of § 382.605 is deleted because it is duplicates the requirements of § 382.309. Paragraph (c)(2)(ii) of § 382.605 is deleted and replaced with a new citation for § 382.605 that sets forth the provisions previously in paragraph (c)(2)(ii) and directs the reader to their location in 49 CFR part 40.

FMCSA corrects the section citation for “§ 395.8(e)(2)” by adding a reference to § 395.8(e)(3), to correct an oversight.

The section citation to “§ 172.802(b)” is corrected to read “§ 172.802(c)” to reflect the Pipeline and Hazardous Materials Safety Administration (PHMSA) redesignation of that section on March 9, 2010 (75 FR 10989). FMCSA also changes the section citation to “§ 173.421(a)” to read “§ 173.421.” On July 11, 2014 (79 FR 40613), PHMSA revised § 173.421 and FMCSA corrects this citation to reflect this.

J. Part 387

Section 387.3 Applicability

FMCSA amends § 387.3(c)(1) by removing the word “part” in the first sentence and replacing it with the word “subpart.” This change is necessary because the Agency inadvertently failed to reconcile existing language in part 387 with language introduced as a result of the ICCTA (Pub. L. 104-88, sec. 204(a), 109 Stat. 803, 941, Dec. 29, 1995). Because of the ICCTA, 49 CFR parts 1043 and 1084 were redesignated as 49 CFR part 387, subparts C and D, respectively, which establish minimum levels of financial responsibility for certain small freight vehicles (61 FR 54709, Oct. 21, 1996). This created a conflict with the language in § 387.3(c)(1) that states “the rules in this part do not apply to a motor vehicle that has a gross vehicle weight rating (GVWR) of less than 10,001 pounds.” By changing the word “part” to “subpart,” the language is reconciled and the conflict is eliminated. Because of the addition of subparts C and D to part 387, FMCSA also changes “part” to “subpart” in § 387.3(c)(2).

Section 387.7 Financial Responsibility Required

FMCSA clarifies § 387.7(b)(3) by reorganizing the section to eliminate an undesignated paragraph and by correcting the spelling of the word “Mexican.”

Section 387.33 (Suspended) and Section 387.33T Financial Responsibility, Minimum Levels

FMCSA moves the provision, “Except as provided in § 387.27(b),” now shown as a footnote in both §§ 387.33 (suspended) and 387.33T, to the introductory text in each section. Furthermore, FMCSA updates the table in § 387.33T by removing the references to the 1983 and 1985 effective dates, which are no longer necessary, and showing only the current $5 and $1.5 million minimum limits of public liability insurance required. In addition, FMCSA clarifies that the seating capacity shown in the table in § 387.33T includes the driver, and redesignates the entries in the table as (a) and (b) to conform to Office of the Federal Register style.

Section 387.301 (Suspended) and Section 387.301T Surety Bond, Certificate of Insurance, or Other Securities

FMCSA changes both § 387.301(b) (suspended) and § 387.301T(b) to reference the definitions of “household goods motor carriers” and “individual shippers” in § 375.103, rather than the more general “part 375.” FMCSA amends these sections to clarify for the reader specifically where these definitions are in the CFR.

Section 387.303 (Suspended) and Section 387.303T Security for the Protection of the Public: Minimum Limits

Both §§ 387.303 (suspended) and 387.303T have an undesignated paragraph following paragraph (b)(4)(iii). In both § 387.303 (suspended) and § 387.303T, FMCSA designates those paragraphs as (b)(5). An undesignated paragraph is contrary to the style required by the Office of the Federal Register and makes it difficult to reference or change those paragraphs.

Section 387.313 (Suspended) Forms and Procedures

FMCSA corrects § 387.313(a)(6) (suspended) by renumbering paragraphs (a)(6)(1) and (a)(6)(2) as (a)(6)(i) and (a)(6)(ii). FMCSA makes this change to conform to Office of the Federal Register style. This error does not appear in § 387.313T, because the subparagraphs are correctly shown as (a)(6)(i) and (a)(6)(ii).

K. Part 390

Section 390.3 (Suspended) and 390.3T General Applicability

FMCSA amends § 390.3 (suspended) to clarify that the coercion rules in § 390.6 apply to shippers, receivers, consignees, brokers, freight forwarders, and other transportation intermediaries. The first Unified Registration System rule (URS) was published August 23, 2013 (78 FR 52608). The coercion rules, which prohibit shippers, receivers, consignees, and transportation intermediaries from coercing drivers of commercial motor vehicles (CMV) operating in interstate commerce to violate certain safety regulations, were subsequently published November 30, 2015 (80 FR 74710). Inadvertently, FMCSA failed to add shippers, receivers, consignees, broker, freight forwarder, and other transportation intermediaries to the general applicability requirements in § 390.3 (suspended) when it corrected and delayed the URS rule on July 28, 2016 (81 FR 49554), as well as in the indefinite URS suspension and amendments made on January 17, 2017 (82 FR 5310).

To correct this oversight, FMCSA adds a specific reference to § 390.6, Coercion prohibited, in § 390.3(i)(4) (suspended), which lists the provisions in 49 CFR chapter III, subchapter B that apply to brokers. Also, in § 390.3(j) (suspended), which lists the provisions of 49 CFR chapter III, subchapter B that apply to freight forwarders that are required to register with the Agency, FMCSA changes paragraph (j)(3) by adding a specific citation to § 390.6.

FMCSA also adds a new paragraph (l) to § 390.3 (suspended) to clarify that the rules in 49 CFR 386.12(c) and 390.6 are applicable to shippers, receivers, consignees, and transportation intermediaries. Adding these references to § 390.3 (suspended) does not create any new requirements. It simply provides a summary for users of the regulations that apply to them.

FMCSA corrects § 390.3T(a)(2) by changing the reference from § 386.12(e) to § 386.12(c). This change is necessary because the ELD rule revised § 386.12 and moved the coercion provisions to paragraph (c), effective February 16, 2016 (80 FR 78381, Dec. 16, 2015).

Section 390.5 (Suspended) and 390.5T Definitions

FMCSA amends four of the definitions in § 390.5 (suspended) and two of the definitions in § 390.5T, which is currently in effect. First, in the definition for “Conviction” in both §§ 390.5 (suspended) and 390.5T, FMCSA removes the word “prorated” at the end of the definition and replaces it with the word “probated” to correct an error. Originally, FHWA published its revised definition of “Conviction” on October 4, 1988 (53 FR 39050) and it correctly read, “Conviction means . . . regardless of whether or not the penalty is rebated, suspended, or probated.” FMCSA erroneously changed “probated” to “prorated” in an October 2, 2014 technical amendment (79 FR 59451, 59455-56). Second, in the definition of “Covered farm vehicle” in both §§ 390.5 (suspended) and 390.5T, FMCSA changes paragraph (1)(ii) by removing an extraneous and incorrect “a” before “an owner or operator of a farm or ranch.” In § 390.5 (suspended), FMCSA corrects the definitions of “Farm vehicle driver” and “Farmer” by changing the numbering to conform to Office of the Federal Register style. This error does not occur in § 390.5T.

Section 390.15 Assistance in Investigations and Special Studies

In § 390.15(b) introductory text, FMCSA deletes a provision that requires motor carriers to maintain accident registers for a period of 1 year from accidents that occurred on or prior to April 29, 2003. It also removes the reference to “April 29, 2003,” the compliance date for the current requirements. FMCSA removes these obsolete provisions to update and clarify the rule.

Section 390.19T Motor Carrier, Hazardous Material Safety Permit Applicant/Holder, and Intermodal Equipment Provider Identification Reports

FMCSA corrects the heading of § 390.19T to reflect the heading of § 390.19 as of January 13, 2017, the day before the effective date of the Unified Registration System; Suspension of Effectiveness rulemaking (82 FR 5316, Jan. 17, 2017). FMCSA inadvertently used the same heading for both § 390.19 (suspended) and § 390.19T.

Section 390.27 Locations of Motor Carrier Safety Service Centers

FMCSA revises § 390.27 to spell out the abbreviations in the table to help the user, and to change the address of the Eastern Service Center. The Eastern Service Center moved in July 2017, requiring this update.

Section 390.115 Procedure for Removal From the National Registry of Certified Medical Examiners

In paragraph (a) of § 390.115, FMCSA adds the mailing address for the Director, Office of Carrier, Driver and Vehicle Safety Standards. In paragraph (d), FMCSA makes amendments to reflect the current title of the Associate Administrator for Policy and to add a mailing address for the Associate Administrator. FMCSA makes these changes to update the regulations and make the mailing addresses easily available for the user.

L. Part 393

Section 393.60 Glazing in Specified Openings

In a rule published September 23, 2016 (81 FR 65568), FMCSA allowed the voluntary mounting of vehicle safety technologies on the interior of the windshields of CMVs, including placement within the area that is swept by the windshield wipers. FMCSA reorganizes § 393.60(e)(1)(ii) to clarify that those technologies must always be placed outside the driver's sight lines to the road and to highway signs and signals.

M. Part 395

Section 395.13 Drivers Declared Out of Service

In § 395.13(c)(2), FMCSA removes the reference to “form MCS-63,” and changes the title of the form from “Driver-Vehicle Examination Report” to its current title, “Driver/Vehicle Examination Report.” While the form name has remained largely the same, this form number is no longer used internally. FMCSA also makes this change to eliminate any possible confusion with other Federal, State, Canadian, and Mexican inspection forms.

Appendix A to Subpart B of Part 395—Functional Specifications for All Electronic Logging Devices (ELDs)

FMCSA changes sections 4.2, ELD-Vehicle Interface, and 4.3, ELD Inputs, of Appendix A to Subpart B of Part 395 by adding references to “the vehicle's databus” and making other changes. In section 4.2(b), FMCSA changes the phrase “vehicle's engine ECM” to read “engine ECM or the vehicle's databus.” In section 4.3.1.2(b), FMCSA changes “must be acquired from the engine ECM” to read “must be acquired from the engine ECM or the vehicle's databus.” In section 4.3.1.3(b)(1), FMCSA changes “engine ECM's odometer message” to read simply “odometer message,” and adds a reference to “engine ECM or the vehicle's databus.” FMCSA amends section 4.3.1.4(b) by revising the phrase “the engine ECM's total engine hours” to read instead “the total engine hours.” Also in that section, FMCSA adds the phrase “on the engine ECM or the vehicle's databus” to clarify how the message is broadcast. Finally, the Agency removes the phrase “from the engine ECM” from section 4.3.1.7. These changes simply clarify the Agency's intent, which was always that the required vehicle parameters be obtained either via the vehicle databus or directly from the engine ECM, as evidenced by the language in section 4.2(b) of the functional specifications (“through the serial or Control Area Network communication protocols supported by the vehicle's engine ECM”) (80 FR 78391, Dec. 16, 2015). The foregoing changes are made in response to a petition for reconsideration of the ELD final rule submitted by the Truck and Engine Manufacturers Association (EMA).³

³ For information about the Electronic Logging Devices and Hours of Service Supporting Documents final rule, see docket FMCSA-2010-0167, available at https://www.regulations.gov/. The docket contains all the rulemaking documents and petitions pertaining to that rule, including the comments to the proposed rule and the supplemental notice of proposed rulemaking, and the petition for reconsideration submitted by EMA on January 15, 2016.

Furthermore, FMCSA makes minor changes to sections 4.4, ELD Processing and Calculations, and 4.8, ELD Outputs, of Appendix A to Subpart B of Part 395. These amendments to sections 4.4 and 4.8 do not substantively change the ELD regulations. Rather, they make the technical specifications internally consistent and consistent with the regulatory requirements. These changes are necessary to conform the technical specifications with guidance documents for ELD software developers and frequently-asked-question (FAQ) documents that FMCSA has already published.

FMCSA has worked during the last year with about 80 ELD software vendors with currently-certified ELD products to help them ensure their products use the programming amendments being made today. Motor carriers, ELD owners, and drivers should not be impacted by these amendments. They are very technical in nature and involve what vendors do behind the scenes relating to ELD computer programming requirements for software's input and output data. If an ELD software vendor needs to make any further updates because of these amendments to a motor carrier's or driver's ELD unit, the ELD software vendor will most likely send the amendments to the ELD unit in a regular software update. Many software vendors will perform the update wirelessly or through the internet, similar to how the public receives software updates from vendors for smartphones, laptops, and handheld global positioning system electronic devices.

Specifically, FMCSA amends paragraph (b)(9) of section 4.4.5.1.1., Event Checksum Calculation, by changing “<CMV Number>” to read “<CMV Power Unit Number>”. “CMV Number” is not a data element in the rule; the correct term is “CMV Power Unit Number,” which is defined in section 7.4. FMCSA corrects the data element “ELD ID: <ELD Registration ID>” in paragraph (b) of section 4.8.1.3., Information To Be Shown on the Printout and Display at Roadside, to read “ELD ID: <ELD Identifier>”. This data element is an ELD provider assigned value and not the FMCSA-provided ELD registration ID, as depicted in the examples in this section.

FMCSA corrects section 4.8.2.1.6., ELD Event List for Driver's Certification of Own Records, to read “Driver's Certification/Recertification Actions: <CR>”. This error in “Driver's” was introduced due to the Government Printing Office publication font, which uses a curly apostrophe symbol style rather than a straight apostrophe symbol style. ELD software developer's must use the ANSI INCITS 4-1986 (R2012), American National Standard for Information Systems—Coded Character Sets—7-Bit American National Standard Code for Information Interchange (7-Bit ASCII), approved June 14, 2007. This standard is incorporated by reference in § 395.38(b)(1) and Appendix A to Subpart B of Part 395 in sections 4.8.2.1., ELD Output File Standard, paragraph (b) and section 6, References, paragraph (a)(1). This 7-Bit ASCII Code 39 provides a character and encoding only for a straight apostrophe symbol; it does not recognize or include encoding for a curly apostrophe symbol.

FMCSA corrects six of the data elements in section 7, Data Elements Dictionary, of Appendix A to Subpart B of Part 395. FMCSA changes section 7.14, ELD Authentication Value, to clarify that manufacturers who use a data length of the industry standard 2,048 characters or larger will be in compliance with the rule. The current data length range of 16-32 was not consistent with the signature generated by a current industry standard certificate. While a certificate from 16-32 characters could be used, it would not be consistent with the surety standards in place today. Today's certificate keys, which determine length of the final output, can consist of up to 16,384 bits. In section 7.19, Engine Hours, FMCSA changes the entry for “Disposition” to include certain scenarios allowed in the rule where this information will not be available. In Table 6, “Event Type” Parameter Coding, in section 7.20, Event Code, FMCSA corrects the event code description for “Driver indication for PC, YM and WT cleared” to read “Driver indication for PC or YM cleared”. While personal moves (PM) or yard moves (YM) are referenced elsewhere in the rule text, WT is not. In both section 7.31, Latitude, and section 7.33, Longitude, the Agency modifies the entries for Data Range, Data Length, Data Format, and Examples to allow for the X, M, and E entries that are identified as allowable in section 4.6.1.4, Positioning Compliance Monitoring. FMCSA changes the entry for Disposition in section 7.43, Vehicle Miles, to include those instances allowed in the rule where this information will not be available.

N. Part 396

Section 396.17 Periodic Inspection

In § 396.17(d), FMCSA changes the two cross references to § 396.23(b)(1) to read, instead, § 396.23(a)(1). In a rule published July 22, 2016 (81 FR 47732), FMCSA removed paragraph (a) of § 396.23 and made existing paragraph (b) the new paragraph (a). FMCSA corrects the cross references in § 396.17(d) to reflect that change.

In paragraph (f) of § 396.17, FMCSA changes the phrase “State government or equivalent jurisdiction” to read “State government or equivalent jurisdiction in the Canadian Provinces, the Yukon Territory, and Mexico.” This change clarifies that the inspection programs of State and certain foreign governments can be used to comply with the inspection requirement and conforms with the language in § 396.23.

Section 396.23 Equivalent to Periodic Inspection

FMCSA revises § 396.23 by removing the word “State” and replacing it, where appropriate, with a reference to “government” or “State government or equivalent jurisdiction in the Canadian Provinces, the Yukon Territory, or Mexico.” This amendment is necessary to clarify that those inspection programs of State and certain foreign governments that are found to be as effective as § 396.17 inspection can be used by motor carriers to comply with the periodic inspection requirement. On September 23, 1991, FMCSA's predecessor agency, FHWA, announced its addition of all Canadian Provinces and the Yukon Territory (56 FR 47982) to the list of programs that are comparable to, or as effective as, the Federal periodic inspection (PI) of CMV requirements contained in the FMCSRs. On March 16, 2016, FMCSA announced its acceptance of the Norma Oficial Mexicana ((NOM) or Official Mexican Standard) as equivalent to the Federal PI of CMVs (81 FR 14195).

O. Part 397

Section 397.73 Public Information and Reporting Requirements

FMCSA reorganizes § 397.73(b) and adds a reference to its website in new paragraph (b)(3)(i). This change is necessary to update the procedures for finding information on the National Hazardous Materials Route Registry.

Section 397.103 Requirements for State Routing Designations

The Agency adds a reference to its website in § 397.103(c)(3). It also changes paragraph (d) by adding an email address to request the “Guidelines for Selecting Preferred Highway Routes for Highway Route Controlled Quantity Shipments of Radioactive Materials.” These changes help the user by providing updated procedures for addressing State routing designations.

P. Part 398

Section 398.8 Administration Inspection of Motor Vehicles in Operation

FMCSA updates § 398.8 to remove form numbers that are no longer in common use and, instead, to provide current titles for those forms. Paragraph (a) is republished to provide context. In § 398.8(b), FMCSA changes the title of Form MCS 63, “Driver-Equipment Compliance Check,” to “Driver/Vehicle Examination Report” to reflect the current title of the inspection report form and removes the reference to the form number. FMCSA changes paragraph (c)(1) by removing the reference to Form MCS-64, instead referring to that form only as “Out of Service Vehicle” sticker. In paragraphs (c)(2), (3), and (4), the Agency removes the references to Form MCS-63 and instead uses “Driver/Vehicle Examination Report.” Throughout paragraph (d), the references to “Form MCS-63” are changed to read “Driver/Vehicle Examination Report.” Because the form numbers are no longer in common use, FMCSA makes these changes to provide a consistent, current reference to the Driver/Vehicle Examination Report and the “Out of Service” sticker. Also, FMCSA wants to avoid the possible confusion caused by other Federal, State, Canadian, and Mexican forms.

IV. Regulatory Analyses

A. Executive Order (E.O.) 12866 (Regulatory Planning and Review), E.O. 13563 (Improving Regulation and Regulatory Review), and DOT Regulatory Policies and Procedures

FMCSA determined that this final rule is not a significant regulatory action under section 3(f) of E.O. 12866 (58 FR 51735, Oct. 4, 1993), Regulatory Planning and Review, as supplemented by E.O. 13563 (76 FR 3821, Jan. 21, 2011), Improving Regulation and Regulatory Review, and does not require an assessment of potential costs and benefits under section 6(a)(3) of that Order. Accordingly, the Office of Management and Budget (OMB) has not reviewed it under that Order. It is also not significant within the meaning of DOT regulatory policies and procedures (DOT Order 2100.5, dated May 22, 1980; 44 FR 11034, Feb. 26, 1979). This final rule makes changes to correct inaccurate references and citations, improve clarity, and fix errors. None of the changes in this final rule impose material new requirements or increase compliance obligations; therefore, this final rule imposes no new costs and a full regulatory evaluation is unnecessary.

B. E.O. 13771 (Reducing Regulation and Controlling Regulatory Costs)

E.O. 13771 (82 FR 9339, Feb. 3, 2017), Reducing Regulation and Controlling Regulatory Costs, requires that, for “every one new [E.O. 13771 regulatory action] issued, at least two prior regulations be identified for elimination, and that the cost of planned regulations be prudently managed and controlled through a budgeting process.”

Implementation guidance for E.O. 13771 issued by OMB on April 5, 2017, defines two different types of E.O. 13771 actions: an E.O. 13771 deregulatory action, and an E.O. 13771 regulatory action.⁴

⁴ Executive Office of the President. Office of Management and Budget. Guidance Implementing Executive Order 13771, Titled “Reducing Regulation and Controlling Regulatory Costs.” Memorandum M-17-21. April 5, 2017.

An E.O. 13771 deregulatory action is defined as “an action that has been finalized and has total costs less than zero.” This rulemaking has total costs equal to zero, and therefore is not an E.O. 13771 deregulatory action.

An E.O. 13771 regulatory action is defined as:

(i) A significant action as defined in section 3(f) of E.O. 12866 that has been finalized, and that imposes total costs greater than zero; or

(ii) a significant guidance document (e.g., significant interpretive guidance) reviewed by OIRA under the procedures of E.O. 12866 that has been finalized and that imposes total costs greater than zero.

The Agency action, in this case a rulemaking, must meet both the significance and the total cost criteria to be considered an E.O. 13771 regulatory action. This rulemaking is not a significant regulatory action as defined in section 3(f) of E.O. 12866, and therefore does not meet the significance criterion for being an E.O. 13771 regulatory action. Consequently, this rulemaking is not an E.O. 13771 regulatory action and no further action under E.O. 13771 is required.

C. Regulatory Flexibility Act

The Regulatory Flexibility Act of 1980 (5 U.S.C. 601 et seq.) requires Federal agencies to consider the effects of the regulatory action on small business and other small entities and to minimize any significant economic impact. The term “small entities” comprises small businesses and not-for-profit organizations that are independently owned and operated and are not dominant in their fields, and governmental jurisdictions with populations of less than 50,000.⁵ Accordingly, DOT policy requires an analysis of the impact of all regulations on small entities, and mandates that agencies strive to lessen any adverse effects on these businesses. Under the Regulatory Flexibility Act, as amended by the Small Business Regulatory Enforcement Fairness Act of 1996 (Pub. L. 104-121, 110 Stat. 857), this final rule is not expected to have a significant economic impact on a substantial number of small entities. This final rule makes changes to correct inaccurate references and citations, improve clarity, and fix errors. None of the changes in this final rule impose material new requirements or increase compliance obligations; therefore, the final rule is not expected to have a significant economic impact on a substantial number of small entities. Consequently, I certify the action will not have a significant economic impact on a substantial number of small entities.

⁵ Regulatory Flexibility Act (5 U.S.C. 601 et seq.) see National Archives at http://www.archives.gov/federal-register/laws.

D. Assistance for Small Entities

In accordance with section 213(a) of the Small Business Regulatory Enforcement Fairness Act of 1996, FMCSA wants to assist small entities in understanding this final rule so that they can better evaluate its effects and participate in the rulemaking initiative. If the final rule will affect your small business, organization, or governmental jurisdiction and you have questions concerning its provisions or options for compliance; please consult the FMCSA point of contact, David Miller, listed in the FOR FURTHER INFORMATION CONTACT section of this final rule.

Small businesses may send comments on the actions of Federal employees who enforce or otherwise determine compliance with Federal regulations to the Small Business Administration's Small Business and Agriculture Regulatory Enforcement Ombudsman and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

E. Unfunded Mandates Reform Act of 1995

The Unfunded Mandates Reform Act of 1995 (2 U.S.C. 1531-1538) requires Federal agencies to assess the effects of their discretionary regulatory actions. In particular, the Act addresses actions that may result in the expenditure by a State, local, or tribal government, in the aggregate, or by the private sector of $156 million (which is the value equivalent of $100,000,000 in 1995, adjusted for inflation to 2015 levels) or more in any 1 year. This final rule will not result in such an expenditure.

F. Paperwork Reduction Act (Collection of Information)

Under the Paperwork Reduction Act of 1995 (PRA) (44 U.S.C. 3501 et seq.), Federal agencies must obtain approval from OMB for each collection of information they conduct, sponsor, or require through regulations. FMCSA determined that no new information collection requirements are associated with this final rule, nor are there any revisions to existing, approved collections of information. Therefore, the PRA does not apply to this final rule.

G. E.O. 13132 (Federalism)

A rule has implications for federalism under section 1(a) of E.O. 13132 if it has “substantial direct effects on the States, on the relationship between the national government and the States, or on the distribution of power and responsibilities among the various levels of government.” FMCSA has determined that this rule would not have substantial direct costs on or for States, nor would it limit the policymaking discretion of States. Nothing in this document preempts any State law or regulation. Therefore, this rule does not have sufficient federalism implications to warrant the preparation of a Federalism Impact Statement.

H. E.O. 12988 (Civil Justice Reform)

This final rule meets applicable standards in sections 3(a) and 3(b) (2) of E.O. 12988, Civil Justice Reform, to minimize litigation, eliminate ambiguity, and reduce burden.

I. E.O. 13045 (Protection of Children)

E.O. 13045, Protection of Children from Environmental Health Risks and Safety Risks (62 FR 19885, Apr. 23, 1997), requires agencies issuing “economically significant” rules, if the regulation also concerns an environmental health or safety risk that an agency has reason to believe may disproportionately affect children, to include an evaluation of the regulation's environmental health and safety effects on children. The Agency determined this final rule is not economically significant. Therefore, no analysis of the impacts on children is required. In any event, this regulatory action could not disproportionately affect children.

J. E.O. 12630 (Taking of Private Property)

FMCSA reviewed this final rule in accordance with E.O. 12630, Governmental Actions and Interference with Constitutionally Protected Property Rights, and has determined it will not effect a taking of private property or otherwise have taking implications.

K. Privacy Impact Assessment

Section 522(a)(5) of the Transportation, Treasury, Independent Agencies, and General Government Appropriations Act, 2005 (Pub. L. 108- 447, Division H, Title I, 118 Stat. 2809, 3268, Dec. 8, 2004) requires DOT and certain other Federal agencies to conduct a privacy impact assessment of each rule that will affect the privacy of individuals. Because this final rule will not affect the privacy of individuals, FMCSA did not conduct a separate privacy impact assessment.

L. E.O. 12372 (Intergovernmental Review)

The regulations implementing E.O. 12372 regarding intergovernmental consultation on Federal programs and activities do not apply to this program.

M. E.O. 13211 (Energy Supply, Distribution, or Use)

FMCSA has analyzed this final rule under E.O. 13211, Actions Concerning Regulations That Significantly Affect Energy Supply, Distribution, or Use. The Agency has determined that it is not a “significant energy action” under that order because it is not a “significant regulatory action” likely to have a significant adverse effect on the supply, distribution, or use of energy. Therefore, it does not require a Statement of Energy Effects under E.O. 13211.

N. E.O. 13175 (Indian Tribal Governments)

This rule does not have tribal implications under E.O. 13175, Consultation and Coordination with Indian Tribal Governments, because it does not have a substantial direct effect on one or more Indian tribes, on the relationship between the Federal Government and Indian tribes, or on the distribution of power and responsibilities between the Federal Government and Indian tribes.

O. National Technology Transfer and Advancement Act (Technical Standards)

The National Technology Transfer and Advancement Act (NTTAA) (15 U.S.C. 272 note) directs agencies to use voluntary consensus standards in their regulatory activities unless the agency provides Congress, through OMB, with an explanation of why using these standards would be inconsistent with applicable law or otherwise impractical. Voluntary consensus standards (e.g., specifications of materials, performance, design, or operation; test methods; sampling procedures; and related management systems practices) are standards that are developed or adopted by voluntary consensus standards bodies. This rule does not use technical standards. Therefore, FMCSA did not consider the use of voluntary consensus standards.

P. Environment (NEPA, CAA, Environmental Justice)

FMCSA analyzed this rule for the purpose of the National Environmental Policy Act of 1969 (NEPA) (42 U.S.C. 4321 et seq.) and determined this action is categorically excluded from further analysis and documentation in an environmental assessment or environmental impact statement under FMCSA Order 5610.1(69 FR 9680, Mar. 1, 2004), Appendix 2, paragraph 6(b). This Categorical Exclusion (CE) addresses minor corrections such as those found in this rulemaking; therefore, preparation of an environmental assessment or environmental impact statement is not necessary. The CE determination is available for inspection or copying in the Federal eRulemaking Portal: http://www.regulations.gov.

FMCSA also analyzed this rule under the Clean Air Act, as amended (CAA), section 176(c) (42 U.S.C. 7401 et seq.), and implementing regulations promulgated by the Environmental Protection Agency. Approval of this action is exempt from the CAA's general conformity requirement since it does not affect direct or indirect emissions of criteria pollutants.

Under E.O. 12898, each Federal agency must identify and address, as appropriate, “disproportionately high and adverse human health or environmental effects of its programs, policies, and activities on minority populations and low-income populations” in the United States, its possessions, and territories. FMCSA evaluated the environmental justice effects of this final rule in accordance with the E.O., and has determined that no environmental justice issue is associated with this final rule, nor is there any collective environmental impact that would result from its promulgation.

List of Subjects

49 CFR Part 350

Grant programs—transportation, Highway safety, Motor carriers, Motor vehicle safety, Reporting and recordkeeping requirements.

49 CFR Part 360

Administrative practice and procedure, Brokers, Buses, Freight forwarders, Hazardous materials transportation, Highway safety, Insurance, Motor carriers, Motor vehicle safety, Moving of household goods, Penalties, Reporting and recordkeeping requirements, Surety bonds.

49 CFR Part 365

Administrative practice and procedure, Brokers, Buses, Freight forwarders, Maritime carriers, Mexico, Motor carriers, Moving of household goods.

49 CFR Part 373

Buses, Freight, Freight forwarders, Motor carriers, Moving of household goods.

49 CFR Part 380

Administrative practice and procedure, Highway safety, Motor carriers, Reporting and recordkeeping requirements.

49 CFR Part 382

Administrative practice and procedure, Alcohol abuse, Drug abuse, Drug testing, Highway safety, Motor carriers, Penalties, Safety, Transportation.

49 CFR Part 383

Administrative practice and procedure, Alcohol abuse, Drug abuse, Highway safety, Motor carriers.

49 CFR Part 384

Administrative practice and procedure, Alcohol abuse, Drug abuse, Highway safety, Motor carriers.

49 CFR Part 385

Administrative practice and procedure, Highway safety, Mexico, Motor carriers, Motor vehicle safety, Reporting and recordkeeping requirements.

49 CFR Part 387

Buses, Freight, Freight forwarders, Hazardous materials transportation, Highway safety, Insurance, Intergovernmental relations, Motor carriers, Motor vehicle safety, Moving of household goods, Penalties, Reporting and recordkeeping requirements, Surety bonds.

49 CFR Part 390

Highway safety, Intermodal transportation, Motor carriers, Motor vehicle safety, Reporting and recordkeeping requirements.

49 CFR Part 393

Highway safety, Motor carriers, Motor vehicle safety.

49 CFR Part 395

Highway safety, Motor carriers, Reporting and recordkeeping requirements.

49 CFR Part 396

Highway safety, Motor carriers, Motor vehicle safety, Reporting and recordkeeping requirements.

49 CFR Part 397

Administrative practice and procedure, Hazardous materials transportation, Highway safety, Intergovernmental relations, Motor carriers, Parking, Radioactive materials, Reporting and recordkeeping requirements, Rubber and rubber products.

49 CFR Part 398

Highway safety, Migrant labor, Motor carriers, Motor vehicle safety, Reporting and recordkeeping requirements.

In consideration of the foregoing, FMCSA amends 49 CFR chapter III as set forth below:

PART 350—MOTOR CARRIER SAFETY ASSISTANCE PROGRAM AND HIGH PRIORITY PROGRAM

1. The authority citation for part 350 is revised to read as follows:

Authority: 49 U.S.C. 13902, 31101-31104, 31108, 31136, 31141, 31161, 31310-31311, 31502; and 49 CFR 1.87.

2. Amend § 350.105 by adding a definition for “New Entrant Safety Audits” in alphabetical order to read as follows:

§ 350.105 What definitions are used in this part?

* * * * *

New entrant safety audits means the safety audits of interstate, and, at the State's discretion, intrastate, new entrant motor carriers under 49 U.S.C. 31144(g) that are required as a condition of MCSAP eligibility under § 350.201(z).

* * * * *

§ 350.335 [Amended]

3. Amend § 350.335(a) introductory text by removing the reference to “49 CFR 320.215” and adding in its place a reference to “49 CFR 350.215”.

PART 360—FEES FOR MOTOR CARRIER REGISTRATION AND INSURANCE

4. The authority citation for part 360 continues to read as follows:

Authority: 31 U.S.C. 9701; 49 U.S.C. 13908; and 49 CFR 1.87.

5. Amend § 360.1T by revising paragraphs (a) and (d)(2) to read as follows:

§ 360.1T Fees for registration-related services.

* * * * *

(a) Certificate of the Director, Office of Registration and Safety Information (MC-RS), as to the authenticity of documents, $9.00;

* * * * *

(d) * * *

(2) The fee for computer searches will be set at the current rate for computer service. Information on those charges can be obtained from the Office of Registration and Safety Information (MC-RS).

* * * * *

6. Amend § 360.3T by revising paragraphs (a)(2) introductory text, (a)(2)(iii) introductory text, and (e)(2)(i) and (iii), to read as follows:

§ 360.3T Filing fees.

(a)* * *

(2) Billing account procedure. A written request must be submitted to the Office of Registration and Safety Information (MC-RS) to establish an insurance service fee account.

* * * * *

(iii) An account holder who files a petition in bankruptcy or who is the subject of a bankruptcy proceeding must provide the following information to the Office of Registration and Safety Information (MC-RS):

* * * * *

(e) * * *

(2) * * *

(i) When to request. At the time that a filing is submitted to the Federal Motor Carrier Safety Administration the applicant may request a waiver or reduction of the fee prescribed in this part. Such request should be addressed to the Director, Office of Registration and Safety Information (MC-RS).

* * * * *

(iii) Federal Motor Carrier Safety Administration action. The Director, Office of Registration and Safety Information (MC-RS), will notify the applicant of the decision to grant or deny the request for waiver or reduction.

* * * * *

PART 365—RULES GOVERNING APPLICATIONS FOR OPERATING AUTHORITY

7. The authority citation for part 365 continues to read as follows:

Authority: 5 U.S.C. 553 and 559; 49 U.S.C. 13101, 13301, 13901-13906, 13908, 14708, 31133, 31138, and 31144; 49 CFR 1.87.

8. Amend § 365.403T by revising paragraph (a) to read as follows:

§ 365.403T Definitions.

* * * * *

(a) Transfer. (1) Transfers include all transactions (i.e., the sale or lease of interstate operating rights, or the merger of two or more carriers or a carrier into a noncarrier) subject to 49 U.S.C. 10926, as well as the sale of property brokers' licenses under 49 U.S.C. 10321.

(2) The execution of a chattel mortgage, deed of trust, or other similar document does not constitute a transfer or require FMCSA's approval. However, a foreclosure for the purpose of transferring an operating right to satisfy a judgment or claim against the record holder may not be effected without approval of FMCSA.

* * * * *

PART 373—RECEIPTS AND BILLS

9. The authority citation for part 373 continues to read as follows:

Authority: 49 U.S.C. 13301, 13531 and 14706; and 49 CFR 1.87.

10. Amend § 373.103 as follows:

a. Withdraw the amendments to § 373.103 published April 16, 2018, at 83 FR 16224.

b. Revise § 373.103 to read as follows:

§ 373.103 For-hire, non-exempt expense bills.

(a) Property. (1) Every for-hire, non-exempt motor carrier of property shall issue a freight or expense bill for each shipment transported containing the following information:

(i) Names of consignor and consignee (except on a reconsigned shipment, not the name of the original consignor).

(ii) Date of shipment.

(iii) Origin and destination points (except on a reconsigned shipment, not the original shipping point unless the final consignee pays the charges from that point).

(iv) Number of packages.

(v) Description of freight.

(vi) Weight, volume, or measurement of freight (if applicable to the rating of the freight).

(vii) Exact rate(s) assessed.

(viii) Total charges due, including the nature and amount of any charges for special service and the points at which such service was rendered.

(ix) Route of movement and name of each carrier participating in the transportation.

(x) Transfer point(s) through which shipment moved.

(xi) Address where remittance must be made or address of bill issuer's principal place of business.

(2) The shipper or receiver owing the charges shall be given the freight or expense bill and the carrier shall keep a copy as prescribed at 49 CFR part 379. If the bill is electronically transmitted (when agreed to by the carrier and payor), a receipted copy shall be given to the payor upon payment.

(b) Charter transportation of passenger service. (1) Every for-hire, non-exempt motor carrier providing charter transportation of passenger service shall issue an expense bill containing the following information:

(i) Serial number, consisting of one of a series of consecutive numbers assigned in advance and imprinted on the bill.

(ii) Name of carrier.

(iii) Names of payor and organization, if any, for which transportation is performed.

(iv) Date(s) transportation was performed.

(v) Origin, destination, and general routing of trip.

(vi) Identification and seating capacity of each vehicle used.

(vii) Number of persons transported.

(viii) Mileage upon which charges are based, including any deadhead mileage, separately noted.

(ix) Applicable rates per mile, hour, day, or other unit.

(x) Itemized charges for transportation, including special services and fees.

(xi) Total charges assessed and collected.

(2) The carrier shall keep a copy of all expense bills issued for the period prescribed at 49 CFR part 379. If any expense bill is spoiled, voided, or unused for any reason, a copy or written record of its disposition shall be retained for a like period.

PART 380—SPECIAL TRAINING REQUIREMENTS

11. The authority citation for part 380 is revised to read as follows:

Authority: 49 U.S.C. 31133, 31136, 31305, 31307, 31308, and 31502; sec. 4007(a) and (b) of Pub. L. 102-240, 105 Stat. 1914, 2151; sec. 32304 of Pub. L. 112-141, 126 Stat. 405, 791; and 49 CFR 1.87.

§ 380.107 [Amended]

12. Amend § 380.107(a) by removing the phrase “the appendix to this part” and adding in its place the phrase “Appendix F to this part”.

§ 380.109 [Amended]

13. Amend § 380.109 as follows:

a. In paragraphs (a)(1), (a)(5), (a)(6), and (a)(7), remove the phrase “the appendix to this part” wherever it occurs and add in its place the phrase “Appendix F to this part”; and

b. Remove paragraph (d).

§ 380.201 [Amended]

14. Amend § 380.201 as follows:

a. In paragraph (a) introductory text, remove the phrase “the appendix to this part” and add in its place the phrase “Appendix F to this part”; and

b. In paragraph (b), remove the phrase “the appendix to this part” and add in its place the phrase “Appendix F to this part”.

§ 380.203 [Amended]

15. Amend § 380.203(b) by removing the phrase “the appendix to this part” and adding in its place the phrase “Appendix F to this part”.

§ 380.205 [Amended]

16. Amend § 380.205(b) by removing the phrase “the appendix to this part” and adding in its place the phrase “Appendix F to this part”.

§ 380.303 [Amended]

17. Amend § 380.303(a) by removing the phrase “the appendix to this part” and adding in its place the phrase “Appendix F to this part”.

Subpart E—Entry-Level Driver Training Requirements Before February 7, 2020

18. Revise the heading of subpart E to read as set forth above.

19. Revise § 380.605 to read as follows:

§ 380.605 Definitions.

The definitions in parts 383 and 384 of this subchapter apply to this subpart, except as stated below. As used in this subpart:

Behind-the-wheel (BTW) instructor means an individual who provides BTW training involving the actual operation of a CMV by an entry-level driver on a range or a public road and meets one of these qualifications:

(1) Holds a CDL of the same (or higher) class and with all endorsements necessary to operate the CMV for which training is to be provided and has at least 2 years of experience driving a CMV requiring a CDL of the same or higher class and/or the same endorsement and meets all applicable State qualification requirements for CMV instructors; or

(2) Holds a CDL of the same (or higher) class and with all endorsements necessary to operate the CMV for which training is to be provided and has at least 2 years of experience as a BTW CMV instructor and meets all applicable State qualification requirements for CMV instructors.

Exception applicable to paragraphs (1) and (2) of this definition: A BTW instructor who provides training solely on a range which is not a public road is not required to hold a CDL of the same (or higher) class and with all endorsements necessary to operate the CMV for which training is to be provided, as long as the instructor previously held a CDL of the same (or higher) class and with all endorsements necessary to operate the CMV for which training is to be provided, and complies with the other requirements set forth in paragraphs (1) or (2) of this definition.

(3) If an instructor's CDL has been cancelled, suspended, or revoked due to any of the disqualifying offenses identified in § 383.51 of this subchapter, the instructor is prohibited from engaging in BTW instruction for 2 years following the date his or her CDL is reinstated.

Behind-the-wheel (BTW) public road training means training provided by a BTW instructor when an entry-level driver has actual control of the power unit during a driving lesson conducted on a public road. BTW public road training does not include the time that an entry-level driver spends observing the operation of a CMV when he or she is not in control of the vehicle.

Behind-the-wheel (BTW) range training means training provided by a BTW instructor when an entry-level driver has actual control of the power unit during a driving lesson conducted on a range. BTW range training does not include time an entry-level driver spends observing the operation of a CMV when he or she is not in control of the vehicle.

Entry-level driver means an individual who must complete the CDL skills test requirements under § 383.71 of this subchapter prior to receiving a CDL for the first time, upgrading to a Class A or Class B CDL, or obtaining a hazardous materials, passenger, or school bus endorsement for the first time. This definition does not include individuals for whom States waive the CDL skills test under § 383.77 or individuals seeking to remove a restriction in accordance with § 383.135(b)(7) of this subchapter.

Entry-level driver training means training an entry-level driver receives from an entity listed on FMCSA's Training Provider Registry prior to:

(1) Taking the CDL skills test required to receive the Class A or Class B CDL for the first time;

(2) Taking the CDL skills test required to upgrade to a Class A or Class B CDL; or

(3) Taking the CDL skills test required to obtain a passenger and/or school bus endorsement for the first time or the CDL knowledge test required to obtain a hazardous materials endorsement for the first time.

Range means an area that must be free of obstructions, enables the driver to maneuver safely and free from interference from other vehicles and hazards, and has adequate sight lines.

Theory instruction means knowledge instruction on the operation of a CMV and related matters provided by a theory instructor through lectures, demonstrations, audio-visual presentations, computer-based instruction, driving simulation devices, online training, or similar means.

Theory instructor means an individual who provides knowledge instruction on the operation of a CMV and meets one of these qualifications:

(1) Holds a CDL of the same (or higher) class and with all endorsements necessary to operate the CMV for which training is to be provided and has at least 2 years of experience driving a CMV requiring a CDL of the same (or higher) class and/or the same endorsement and meets all applicable State qualification requirements for CMV instructors; or

(2) Holds a CDL of the same (or higher) class and with all endorsements necessary to operate the CMV for which training is to be provided and has at least 2 years of experience as a BTW CMV instructor and meets all applicable State qualification requirements for CMV instructors.

Exceptions applicable to paragraphs (1) and (2) of this definition:

1. An instructor is not required to hold a CDL of the same (or higher) class and with all endorsements necessary to operate the CMV for which training is to be provided, if the instructor previously held a CDL of the same (or higher) class and complies with the other requirements set forth in paragraphs (1) or (2) of this definition.

2. Training providers offering online content exclusively are not required to meet State qualification requirements for theory instructors.

(3) If an instructor's CDL has been cancelled, suspended, or revoked due to any of the disqualifying offenses identified in § 383.51 of this subchapter, the instructor is prohibited from engaging in theory instruction for 2 years following the date his or her CDL is reinstated.

Training provider means an entity that is listed on the FMCSA Training Provider Registry, as required by subpart G of this part. Training providers include, but are not limited to, training schools, educational institutions, rural electric cooperatives, motor carriers, State/local governments, school districts, joint labor management programs, owner-operators, and individuals.

20. Revise § 380.713 to read as follows:

§ 380.713 Instructor requirements.

(a) Theory training providers must utilize instructors who are theory instructors as defined in § 380.605.

(b) BTW training providers must utilize instructors who are BTW instructors as defined in § 380.605.

Appendix A to Part 380 [Amended]

21. Amend Appendix A to Part 380 as follows:

a. In the second sentence of Unit A1.2.7, remove the word “provide” and add in its place the word “provider”; and

b. In the first sentence of Unit A1.5.6, remove the word “in” following the words “driver-trainees.”

Appendix B to Part 380 [Amended]

22. Amend Appendix B to Part 380 by removing the heading that reads “Unit 1.3 Pre- and Post-Trip Inspections” and adding in its place a heading that reads “Unit B1.1.3 Pre- and Post-Trip Inspections”.

PART 382—CONTROLLED SUBSTANCES ALCOHOL USE AND TESTING

23. The authority citation for part 382 continues to read as follows:

Authority: 49 U.S.C. 31133, 31136, 31301 et seq., 31502; sec. 32934 of Pub. L. 112-141, 126 Stat. 405, 830; and 49 CFR 1.87.

§ 382.403 [Amended]

24. Amend § 382.403(e) by adding within the parentheses the phrase “as defined in § 382.107” after the phrase “Designated employer representative” in the second sentence.

PART 383—COMMERCIAL DRIVER'S LICENSE STANDARDS; REQUIREMENTS AND PENALTIES

25. The authority citation for part 383 continues to read as follows:

Authority: 49 U.S.C. 521, 31136, 31301 et seq., and 31502; secs. 214 and 215 of Pub. L. 106-159, 113 Stat. 1748, 1766, 1767; sec. 1012(b) of Pub. L. 107-56, 115 Stat. 272, 297, sec. 4140 of Pub. L. 109-59, 119 Stat. 1144, 1746; sec. 32934 of Pub. L. 112-141, 126 stat. 405, 830; and 49 CFR 1.87.

§ 383.5 [Amended]

26. Amend the definition of “Conviction” in § 383.5 by removing the word “prorated” and adding in its place the word “probated”.

27. Revise § 383.23(b)(1), including footnote 1, to read as follows:

§ 383.23 Commercial driver's license.

* * * * *

(b) Exception. (1) If a CMV operator is not domiciled in a foreign jurisdiction that the Administrator has determined tests drivers and issues CDLs in accordance with, or under standards similar to, the standards contained in subparts F, G, and H of this part,¹ the person may obtain a Non-domiciled CLP or Non-domiciled CDL from a State that does comply with the testing and licensing standards contained in such subparts F, G, and H of this part, so long as that person meets the requirements of § 383.71(f).

¹ Effective December 29, 1988, the Administrator determined that commercial driver's licenses issued by Canadian Provinces and Territories in conformity with the Canadian National Safety Code are in accordance with the standards of this part. Effective November 21, 1991, and as amended on January 19, 2017, the Administrator determined that the new Licencias Federales de Conductor issued by the United Mexican States are in accordance with the standards of this part. Therefore, under the single license provision of § 383.21, a driver holding a commercial driver's license issued under the Canadian National Safety Code or a new Licencia Federal de Conductor issued by Mexico is prohibited from obtaining a non-domiciled CDL, or any other type of driver's license, from a State or other jurisdiction in the United States.

* * * * *

§ 383.73 [Amended]

28. Amend § 383.73(b)(8) by removing the phrase “§§ 383.71(b)(1)(i)§ 383.71(b)(8) and 383.141” and adding in its place the phrase “§§ 383.71(b)(8) and 383.141”.

PART 384—STATE COMPLIANCE WITH COMMERCIAL DRIVER'S LICENSE PROGRAM

29. The authority citation for part 384 is revised to read as follows:

Authority: 49 U.S.C. 31136, 31301 et seq., and 31502; secs. 103 and 215 of Pub. L. 106-159, 113 Stat. 1748, 1753, 1767; sec. 32934 of Pub. L. 112-141, 126 Stat. 405, 830; sec. 5524 of Pub. L. 114-94, 129 Stat. 1312, 1560; and 49 CFR 1.87.

30. Amend § 384.301 by adding paragraph (k) to read as follows:

§ 384.301 Substantial compliance—general requirements.

* * * * *

(k) A State must come into substantial compliance with the requirements of subpart B of this part and part 383 of this chapter in effect as of February 6, 2017, but not later than February 7, 2020.

PART 385—SAFETY FITNESS PROCEDURES

31. The authority citation for part 385 continues to read as follows:

Authority: 49 U.S.C. 113, 504, 521(b), 5105(e), 5109, 5113, 13901-13905, 13908, 31136, 31144, 31148, 31151, and 31502; Sec. 350 of Pub. L. 107-87; and 49 CFR 1.87.

32. Amend § 385.203 by revising paragraph (c) to read as follows:

§ 385.203 What are the requirements to obtain and maintain certification?

* * * * *

(c) The requirements of paragraphs (a) and (b) of this section for training, performance and maintenance of certification/qualification, which are described on the FMCSA website (www.fmcsa.dot.gov), are also available in hard copy from the Federal Motor Carrier Safety Administration, Professional Development and Training Division (MC-MHT), 1310 N. Courthouse Road, Suite 600, Arlington, VA 22201.

33. Amend Appendix B to Part 385, section VII. List of Acute and Critical Regulations as follows:

a. By removing the entries for § 382.309(a) and § 382.309(b);

b. By adding an entry for § 382.309 in numerical order;

c. By removing the entries for § 382.605(c)(1) and § 382.605(c)(2)(ii);

d. By adding an entry for § 382.605 in numerical order;

e. By removing the entry for § 395.8(e)(2);

f. By adding an entry for § 395.8(e)(2) or (3) in numerical order;

g. By removing the entry for § 172.802(b);

h. By removing the entry for § 173.421(a); and

i. By adding an entry for § 173.421 in numerical order.

The additions read as follows:

Appendix B to Part 385 [Amended]

* * * * *

§ 382.309 Using a driver who has not undergone return-to-duty testing with a negative drug test result and/or an alcohol test with an alcohol concentration of less than 0.02 in accordance with 49 CFR 40.305 (acute).

* * * * *

§ 382.605 Failing to subject a driver who has been identified as needing assistance to at least six unannounced follow-up drug and/or alcohol tests in the first 12 months following the driver's return-to-duty in accordance with 49 CFR 40.307 (critical).

* * * * *

§ 395.8(e)(2) or (3) Disabling, deactivating, disengaging, jamming, or otherwise blocking or degrading a signal transmission or reception; tampering with an automatic on-board recording device or ELD; or permitting or requiring another person to engage in such activity (acute).

* * * * *

§ 173.421 Accepting for transportation or transporting a Class 7 (radioactive) material described, marked, and packaged as a limited quantity when the radiation level on the surface of the package exceeds 0.005mSv/hour (0.5 mrem/hour) (acute).

* * * * *

PART 387—MINIMUM LEVELS OF FINANCIAL RESPONSIBILITY FOR MOTOR CARRIERS

34. The authority citation for part 387 is revised to read as follows:

Authority: 49 U.S.C. 13101, 13301, 13906, 13908, 14701, 31138, and 31139; sec. 204(a), Pub. L. 104-88, 109 Stat. 803, 941; and 49 CFR 1.87.

§ 387.3 [Amended]

35. Amend § 387.3(c) by removing the word “part” and adding in its place the word “subpart” wherever it appears.

36. Amend § 387.7 by revising paragraph (b)(3) to read as follows:

§ 387.7 Financial responsibility required.

* * * * *

(b) * * *

(3) Exception. (i) A Mexico-domiciled motor carrier operating solely in municipalities in the United States on the U.S.-Mexico international border or within the commercial zones of such municipalities with a Certificate of Registration issued under part 368 may meet the minimum financial responsibility requirements of this subpart by obtaining insurance coverage, in the required amounts, for periods of 24 hours or longer, from insurers that meet the requirements of § 387.11.

(ii) A Mexican motor carrier so insured must have available for inspection in each of its vehicles copies of the following documents:

(A) The Certificate of Registration;

(B) The required insurance endorsement (Form MCS-90); and

(C) An insurance identification card, binder, or other document issued by an authorized insurer which specifies both the effective date and the expiration date of the temporary insurance coverage authorized by this exception.

(iii) Mexican motor carriers insured under this exception are also exempt from the notice of cancellation requirements stated on Form MCS-90.

* * * * *

37. Amend § 387.33 as follows:

a. Lift the suspension of the section;

b. Revise paragraph (a); and

c. Suspend § 387.33 indefinitely.

The revision reads as follows:

§ 387.33 Financial responsibility, minimum levels.

(a) General limits. Except as provided in § 387.27(b), the minimum levels of financial responsibility referred to in § 387.31 are prescribed as follows:

SCHEDULE OF LIMITS

Public Liability

For-hire motor carriers of passengers operating in interstate or foreign commerce.

Vehicle seating capacity | Minimum limits
(1) Any vehicle with a seating capacity of 16 passengers or more, including the driver | $5,000,000
(2) Any vehicle with a seating capacity of 15 passengers or less, including the driver | 1,500,000

* * * * *

38. Revise § 387.33T to read as follows:

§ 387.33T Financial responsibility, minimum levels.

Except as provided in § 387.27(b), the minimum levels of financial responsibility referred to in § 387.31 are hereby prescribed as follows:

SCHEDULE OF LIMITS

Public Liability

For-hire motor carriers of passengers operating in interstate or foreign commerce.

Vehicle seating capacity | Minimum limits
(a) Any vehicle with a seating capacity of 16 passengers or more, including the driver | $5,000,000
(b) Any vehicle with a seating capacity of 15 passengers or less, including the driver | 1,500,000

39. Amend § 387.301 as follows:

a. Lift the suspension of the section;

b. Amend paragraph (b) by revising the last sentence of the paragraph; and

c. Suspend § 387.301 indefinitely.

The revision reads as follows:

§ 387.301 Surety bond, certificate of insurance, or other securities.

* * * * *

(b) * * * The terms “household goods motor carrier” and “individual shipper” are defined in § 375.103 of this subchapter.

* * * * *

40. Amend § 387.301T by revising the last sentence of paragraph (b) to read as follows:

§ 387.301T Surety bond, certificate of insurance, or other securities.

* * * * *

(b) * * * The terms “household goods motor carrier” and “individual shipper” are defined in § 375.103 of this subchapter.

* * * * *

§ 387.303 [Amended]

41. Amend § 387.303 as follows:

a. Lift the suspension of the section;

b. Redesignate the undesignated paragraph following (b)(4)(iii) as paragraph (b)(5); and

c. Suspend § 387.303 indefinitely.

§ 387.303T [Amended]

42. Amend § 387.303T by redesignating the undesignated paragraph following (b)(4)(iii) as paragraph (b)(5).

§ 387.313 [Amended]

43. Amend § 387.313 as follows:

a. Lift the suspension of the section;

b. Redesignate paragraphs (a)(6)(1) and (a)(6)(2) as paragraphs (a)(6)(i) and (a)(6)(ii), respectively; and

c. Suspend § 387.313 indefinitely.

PART 390—FEDERAL MOTOR CARRIER SAFETY REGULATIONS; GENERAL

44. The authority citation for part 390 is revised to read as follows:

Authority: 49 U.S.C. 504, 508, 31132, 31133, 31134, 31136, 31137, 31144, 31149, 31151, 31502; sec. 114, Pub. L. 103-311, 108 Stat. 1673, 1677; secs. 212, 217, Pub. L. 106-159, 113 Stat. 1748, 1766, 1767; sec. 229, Pub. L. 106-159 (as added and transferred by sec. 4115 and amended by secs. 4130-4132, Pub. L. 109-59, 119 Stat. 1144, 1726, 1743); sec. 4136, Pub. L. 109-59, 119 Stat. 1144, 1745; secs. 32101(d), 32934, Pub. L. 112-141, 126 Stat. 405, 778, 830; sec. 2, Pub. L. 113-125, 128 Stat. 1388; secs. 5518, 5524, Pub. L. 114-94, 129 Stat. 1312, 1558, 1560; and 49 CFR 1.87.

45. Amend § 390.3 as follows:

a. Lift the suspension of the section;

b. Revise paragraphs (i)(4) and (j)(3);

c. Add paragraph (l); and

d. Suspend § 390.3 indefinitely.

The revision and addition read as follows:

§ 390.3 General applicability.

* * * * *

(i) * * *

(4) Section 390.6, prohibiting the coercion of drivers of commercial motor vehicles operating in interstate commerce to violate certain safety regulations, and subpart E of this part, Unified Registration System.

(j) * * *

(3) Section 390.6, prohibiting the coercion of drivers of commercial motor vehicles operating in interstate commerce to violate certain safety regulations, and subpart E of this part, Unified Registration System.

* * * * *

(l) Shippers, receivers, consignees, and transportation intermediaries. The rules in 49 CFR 386.12(c) and 390.6 prohibiting the coercion of drivers of commercial motor vehicles operating in interstate commerce to violate certain safety regulations are applicable to shippers, receivers, and transportation intermediaries.

§ 390.3T [Amended]

46. Amend § 390.3T(a)(2) introductory text by removing the phrase “rules in 49 CFR 386.12(e) and 390.6” and adding in its place the phrase “rules in 49 CFR 386.12(c) and 390.6”.

47. Amend § 390.5 as follows:

a. Lift the suspension of the section;

b. Revise the definition of “Conviction”;

c. Amend the definition of “Covered farm vehicle” by revising paragraph (1)(ii);

d. Revise the definitions of “Farm vehicle driver,” and “Farmer”; and

e. Suspend § 390.5 indefinitely.

The revisions read as follows:

§ 390.5 Definitions.

* * * * *

Conviction means an unvacated adjudication of guilt, or a determination that a person has violated or failed to comply with the law in a court of original jurisdiction or by an authorized administrative tribunal, an unvacated forfeiture of bail or collateral deposited to secure the person's appearance in court, a plea of guilty or nolo contendere accepted by the court, the payment of a fine or court cost, or violation of a condition of release without bail, regardless of whether or not the penalty is rebated, suspended, or probated.

Covered farm vehicle—

(1) * * *

(ii) Operated by the owner or operator of a farm or ranch, or an employee or family member of an owner or operator of a farm or ranch;

* * * * *

Farm vehicle driver means a person who drives only a commercial motor vehicle that is—

(1) Controlled and operated by a farmer as a private motor carrier of property;

(2) Being used to transport either—

(i) Agricultural products, or

(ii) Farm machinery, farm supplies, or both, to or from a farm;

(3) Not being used in the operation of a for-hire motor carrier;

(4) Not carrying hazardous materials of a type or quantity that requires the commercial motor vehicle to be placarded in accordance with § 177.823 of this subtitle; and

(5) Being used within 150 air-miles of the farmer's farm.

Farmer means any person who operates a farm or is directly involved in the cultivation of land, crops, or livestock which—

(1) Are owned by that person; or

(2) Are under the direct control of that person.

* * * * *

48. Amend § 390.5T as follows:

a. Revise the definition of “Conviction”; and

b. Amend the definition of “Covered farm vehicle” by revising paragraph (1)(ii).

The revisions read as follows:

§ 390.5T Definitions.

* * * * *

Conviction means an unvacated adjudication of guilt, or a determination that a person has violated or failed to comply with the law in a court of original jurisdiction or by an authorized administrative tribunal, an unvacated forfeiture of bail or collateral deposited to secure the person's appearance in court, a plea of guilty or nolo contendere accepted by the court, the payment of a fine or court cost, or violation of a condition of release without bail, regardless of whether or not the penalty is rebated, suspended, or probated.

Covered farm vehicle—

(1) * * *

(ii) Operated by the owner or operator of a farm or ranch, or an employee or family member of an owner or operator of a farm or ranch;

* * * * *

49. Revise § 390.15(b) introductory text to read as follows:

§ 390.15 Assistance in investigations and special studies.

* * * * *

(b) Motor carriers must maintain an accident register for 3 years after the date of each accident. Information placed in the accident register must contain at least the following:

* * * * *

50. Amend § 390.19T by revising the section heading to read as follows:

§ 390.19T Motor carrier, hazardous material safety permit applicant/holder, and intermodal equipment provider identification reports.

* * * * *

51. Revise § 390.27 to read as follows:

§ 390.27 Locations of motor carrier safety service centers.

Service center | Territory included | Location of office
Eastern | Connecticut, Delaware, District of Columbia, Maine, Maryland, Massachusetts, New Hampshire, New Jersey, New York, Pennsylvania, Puerto Rico, Rhode Island, United States Virgin Islands, Vermont, Virginia, West Virginia | 31 Hopkins Plaza, Suite 800, Baltimore, Maryland 21201.
Midwestern | Illinois, Indiana, Iowa, Kansas, Michigan, Minnesota, Missouri, Nebraska, Ohio, Wisconsin | 4749 Lincoln Mall Drive, Suite 300A, Matteson, Illinois 60443.
Southern | Alabama, Arkansas, Florida, Georgia, Kentucky, Louisiana, Mississippi, North Carolina, Oklahoma, South Carolina, Tennessee | 1800 Century Boulevard, Suite 1700, Atlanta, Georgia 30345-3220.
Western | Alaska, American Samoa, Arizona, California, Colorado, Guam, Hawaii, Idaho, Mariana Islands, Montana, Nevada, New Mexico, North Dakota, Oregon, South Dakota, Texas, Utah, Washington, Wyoming | 12600 West Colfax Avenue, Suite B-300, Lakewood, Colorado 80215.
Note 1: Canadian carriers—for information regarding proper service center, contact an FMCSA division (State) office in Alaska, Maine, Michigan, Montana, New York, North Dakota, Vermont, or Washington.
Note 2: Mexican carriers are handled through the four southern border divisions and the Western Service Center. For information regarding the proper service center, contact an FMCSA division (State) office in Arizona, California, New Mexico, or Texas.

52. Amend § 390.115 as follows:

a. Republish the heading and revise the first sentence of paragraph (a); and

b. Revise paragraph (d) introductory text.

The revisions read as follows:

§ 390.115 Procedure for removal from the National Registry of Certified Medical Examiners.

(a) Voluntary removal. To be voluntarily removed from the National Registry of Certified Medical Examiners, a medical examiner must submit a request to the FMCSA Director, Office of Carrier, Driver and Vehicle Safety Standards, 1200 New Jersey Ave. SE, Washington, DC 20590. * * *

* * * * *

(d) Request for administrative review. If a person has been removed from the National Registry of Certified Medical Examiners under paragraph (c)(1)(iii), (c)(2)(ii), or (e) of this section, that person may request an administrative review no later than 30 days after the date the removal becomes effective. The request must be submitted in writing to the FMCSA Associate Administrator for Policy, 1200 New Jersey Ave. SE, Washington, DC 20590. The request must explain the error(s) committed in removing the medical examiner from the National Registry of Certified Medical Examiners, and include a list of all factual, legal, and procedural issues in dispute, and any supporting information or documents.

* * * * *

PART 393—PARTS AND ACCESSORIES NECESSARY FOR SAFE OPERATION

53. The authority citation for part 393 continues to read as follows:

Authority: 49 U.S.C. 31136, 31151, and 31502; sec. 1041(b) of Pub. L. 102-240, 105 Stat. 1914, 1993 (1991); sec. 5301 and 5524 of Pub. L. 114-94, 129 Stat. 1312, 1543, 1560; and 49 CFR 1.87.

54. Amend § 393.60 by revising paragraph (e)(1)(ii) to read as follows:

§ 393.60 Glazing in specified openings.

* * * * *

(e) * * *

(1) * * *

(ii) Paragraph (e)(1)(i) of this section does not apply to vehicle safety technologies, as defined in § 393.5, that are mounted on the interior of a windshield. Devices with vehicle safety technologies must be mounted outside the driver's sight lines to the road and to highway signs and signals, and:

(A) Not more than 100 mm (4 inches) below the upper edge of the area swept by the windshield wipers; or

(B) Not more than 175 mm (7 inches) above the lower edge of the area swept by the windshield wipers.

* * * * *

PART 395—HOURS OF SERVICE OF DRIVERS

55. The authority citation for part 395 continues to read as follows:

Authority: 49 U.S.C. 504, 31133, 31136, 31137, and 31502; sec. 113, Pub. L. 103-311, 108 Stat. 1673, 1676; sec. 229, Pub. L. 106-159 (as transferred by sec. 4115 and amended by secs. 4130-4132, Pub. L. 109-59, 119 Stat. 1144, 1726, 1743, 1744); sec. 4133, Pub. L. 109-59, 119 Stat. 1144, 1744; sec. 108, Pub. L. 110-432, 122 Stat. 4860-4866; sec. 32934, Pub. L. 112-141, 126 Stat. 405, 830; sec. 5206(b) of Pub. L. 114-94, 129 Stat. 1312, 1537; and 49 CFR 1.87.

56. Amend § 395.13 by revising paragraph (c)(2) to read as follows:

§ 395.13 Drivers declared out of service.

* * * * *

(c) * * *

(2) A motor carrier shall complete the “Motor Carrier Certification of Action Taken” portion of the form “Driver/Vehicle Examination Report” and deliver the copy of the form either personally or by mail to the Division Administrator or State Director Federal Motor Carrier Safety Administration, at the address specified upon the form within 15 days following the date of examination. If the motor carrier mails the form, delivery is made on the date it is postmarked.

* * * * *

57. Amend Appendix A to Subpart B of Part 395 as follows:

a. Revise section 4.2(b);

b. Revise section 4.3.1.2(b);

c. Revise section 4.3.1.3(b)(1);

d. Revise section 4.3.1.4(b);

e. Revise section 4.3.1.7;

f. Revise section 4.4.5.1.1.(b)(9);

g. In section 4.8.1.3.(b), remove the phrase “ELD ID: [ELD Registration ID]” and add in its place the phrase “ELD ID: [ELD Identifier]”;

h. In section 4.8.2.1.6., remove the phrase “Driver's Certification/Recertification Actions: [CR]” and add in its place the phrase “Driver's Certification/Recertification Actions: [CR]”;

i. Revise section 7.14;

j. Amend section 7.19 by revising the entry for “Disposition”;

k. In section 7.20, revise table 6;

l. Revise section 7.31;

m. Revise section 7.33; and

n. Amend section 7.43 by revising the entry for “Disposition”.

The revised text reads as follows:

Appendix A to Subpart B of Part 395—Functional Specifications for All Electronic Logging Devices (ELDs)

* * * * *

4. Functional Requirements

* * * * *

4.2 * * *

(b) An ELD used while operating a CMV that is a model year 2000 or later model year, as indicated by the vehicle identification number (VIN), that has an engine electronic control module (ECM) must establish a link to the engine ECM when the CMV's engine is powered and receive automatically the engine's power status, vehicle's motion status, miles driven value, and engine hours value through the serial or Control Area Network communication protocols supported by the engine ECM or the vehicle's databus. If the vehicle does not have an ECM, an ELD may use alternative sources to obtain or estimate these vehicle parameters with the listed accuracy requirements under section 4.3.1 of this appendix.

* * * * *

4.3.1.2 * * *

(b) If an ELD is required to have a link to the vehicle's engine ECM, vehicle speed information must be acquired from the engine ECM or the vehicle's databus. Otherwise, vehicle speed information must be acquired using an independent source apart from the positioning services described under section 4.3.1.6 of this appendix and must be accurate within ±3 miles per hour of the CMV's true ground speed for purposes of determining the in-motion state for the CMV.

4.3.1.3 * * *

(b) * * *

(1) The ELD must monitor the odometer message broadcast on the engine ECM or the vehicle's databus and use it to log total vehicle miles information; and

* * * * *

4.3.1.4 * * *

(b) If an ELD is required to have a link to the vehicle's engine ECM, the ELD must monitor the total engine hours message broadcast on the engine ECM or the vehicle's databus and use it to log total engine hours information. Otherwise, engine hours must be obtained or estimated from a source that monitors the ignition power of the CMV and must be accurate within ±0.1 hour of the engine's total operation within a given ignition power on cycle.

* * * * *

4.3.1.7. CMV VIN

The vehicle identification number (VIN) for the power unit of a CMV must be automatically obtained and recorded if it is available on the vehicle databus.

* * * * *

4.4.5.1.1 Event Checksum Calculation

* * * * *

(b)

(9) <CMV Power Unit Number>”, and

* * * * *

7. * * *

7.14. ELD Authentication Value

Description: An alphanumeric value that is unique to an ELD and verifies the authenticity of the given ELD.

Purpose: Provides ability to cross-check the authenticity of an ELD used in the recording of a driver's records during inspections.

Source: ELD provider-assigned value; includes a certificate component and a hashed component; necessary information related to authentication keys and hash procedures disclosed by the registered ELD provider during the online ELD certification process for independent verification by FMCSA systems. For example, an ELD Authentication Value could be generated by creating a string that concatenates a predetermined selection of values that will be included in the ELD Output File, signing that string (using the ELD private key and a predetermined hash algorithm), then using a binary-to-text encoding algorithm to encode the signature into alphanumeric characters.

Used in: ELD outputs.

Data Type: Calculated from the authentication ELD provider's private key not provided to FMCSA but corresponding to the ELD provider's public key certificate and calculation procedure privately distributed by the ELD provider to FMCSA during the ELD registration process.

Data Range: Alphanumeric combination.

Data Length: Greater than 16 characters.

Data Format: <CCCC. . . . . . . . .CCCC>.

Disposition: Mandatory.

Example: [bGthamRrZmpha3NkamZsa2pzZGxma2phc2xka2Y7ajtza25rbCBucms7Y2 . . . RuZHNudm5hc21kbnZBU0RGS0xKQVNMS0RKTEs7QVNKRDtGTEtBSlNERktMSkFEU0w7S1NESkZMSw==].

* * * * *

7.19. * * *

Disposition: Mandatory for any event whose origin is the ELD or the unidentified driver profile. For events created by the driver or another authenticated user when engine hours are not available and cannot accurately be determined this field can be blank.

* * * * *

7.20 * * *

* * * * *

7.31. Latitude

Description: An angular distance in degrees north and south of the equator.

Purpose: In combination with the variable “Longitude”, this parameter stamps records requiring a position attribute with a reference point on the face of the earth.

Source: ELD's position measurement.

Used in: ELD events; ELD outputs.

Data Type: Latitude and Longitude must be automatically captured by the ELD.

Data Range: X, M, E or −90.00 to 90.00 in decimal degrees (two decimal point resolution) in records using conventional positioning precision; −90.0 to 90.0 in decimal degrees (single decimal point resolution) in records using reduced positioning precision when allowed; latitudes north of the equator must be specified by the absence of a minus sign (−) preceding the digits designating degrees; latitudes south of the Equator must be designated by a minus sign (−) preceding the digits designating degrees.

Data Length: 1, or 3 to 6 characters.

Data Format: <C> or First character: [<‘-’> or <{blank}>]; then [<C> or <CC>]; then <‘.’>; then [<C> or <CC>].

Disposition: Mandatory.

Examples: [X], [M], [E], [−15.68], [38.89], [5.07], [−6.11], [−15.7], [38.9], [5.1], [−6.1].

* * * * *

7.33. Longitude

Description: An angular distance in degrees measured on a circle of reference with respect to the zero (or prime) meridian; The prime meridian runs through Greenwich, England.

Purpose: In combination with the variable “Latitude”, this parameter stamps records requiring a position attribute with a reference point on the face of the earth.

Source: ELD's position measurement.

Used in: ELD events; ELD outputs.

Data Type: Latitude and Longitude must be automatically captured by the ELD.

Data Range: X, M, E or −179.99 to 180.00 in decimal degrees (two decimal point resolution) in records using conventional positioning precision; −179.9 to 180.0 in decimal degrees (single decimal point resolution) in records using reduced positioning precision when allowed; longitudes east of the prime meridian must be specified by the absence of a minus sign (−) preceding the digits designating degrees of longitude; longitudes west of the prime meridian must be designated by minus sign (−) preceding the digits designating degrees.

Data Length: 1, or 3 to 7 characters.

Data Format: <C> or First character: [<‘-’> or <{blank}>]; then [<C>, <CC> or <CCC>]; then <‘.’>; then [<C> or <CC>].

Disposition: Mandatory.

Examples: [X], [M], [E], [−157.81], [−77.03], [9.05], [−0.15], [−157.8], [−77.0], [9.1], [−0.2].

* * * * *

7.43. * * *

* * * * *

Disposition: Mandatory for any event whose origin is the ELD or the unidentified driver profile. For events created by the driver or another authenticated user when vehicle miles are not available and cannot accurately be determined this field can be blank.

* * * * *

PART 396—INSPECTION, REPAIR, AND MAINTENANCE

58. The authority citation for part 396 continues to read as follows:

Authority: 49 U.S.C. 504, 31133, 31136, 31151, and 31502; sec. 32934, Pub. L. 112-141, 126 Stat. 405, 830; sec. 5524 of Pub. L. 114-94, 129 Stat. 1312, 1560; and 49 CFR 1.87.

§ 396.17 [Amended]

59. Amend § 396.17 as follows:

a. In paragraph (d) remove the reference to “§ 396.23(b)(1)” wherever it appears and add in its place a reference to “§ 396.23(a)(1)”; and

b. In paragraph (f), remove the phrase “State government or equivalent jurisdiction” and add in its place the phrase “State government or equivalent jurisdiction in the Canadian Provinces, the Yukon Territory, and Mexico”.

60. Revise § 396.23 to read as follows:

§ 396.23 Equivalent to periodic inspection.

(a)(1) If a commercial motor vehicle is subject to a mandatory inspection program that is determined by the Administrator to be as effective as § 396.17, the motor carrier or intermodal equipment provider must meet the requirement of § 396.17 through that inspection program. Commercial motor vehicle inspections may be conducted by government personnel, at commercial facilities authorized by a State government or equivalent jurisdiction in the Canadian Provinces, the Yukon Territory, or Mexico, or by the motor carrier or intermodal equipment provider itself under the auspices of a self-inspection program authorized by a State government or equivalent jurisdiction in the Canadian Provinces, the Yukon Territory, or Mexico.

(2) Should FMCSA determine that an inspection program, in whole or in part, is not as effective as § 396.17, the motor carrier or intermodal equipment provider must ensure that the periodic inspection required by § 396.17 is performed on all commercial motor vehicles under its control in a manner specified in § 396.17.

(b) [Reserved]

PART 397—TRANSPORTATION OF HAZARDOUS MATERIALS; DRIVING AND PARKING RULES

61. The authority citation for part 397 continues to read as follows:

Authority: 49 U.S.C. 322; 49 CFR 1.87. Subpart A also issued under 49 U.S.C. 5103, 31136, 31502, and 49 CFR 1.97. Subparts C, D, and E also issued under 49 U.S.C. 5112, 5125.

62. Amend § 397.73 by revising paragraph (b) to read as follows:

§ 397.73 Public information and reporting requirements.

* * * * *

(b) Reporting and publishing requirements. (1) Each State or Indian tribe, through its routing agency, shall provide information identifying all NRHM routing designations that exist within its jurisdiction:

(i) Electronically, by email to HMRouting@dot.gov; or

(ii) By mail to the Federal Motor Carrier Safety Administration, Office of Enforcement and Compliance (MC-EC), 1200 New Jersey Ave. SE, Washington, DC 20590-0001.

(2) States and Indian tribes shall also submit to FMCSA the current name of the State or Indian tribal agency responsible for NHRM highway routing designations. The State or Indian tribe shall include descriptions of these routing designations, along with the dates they were established. Information on any subsequent changes or new NRHM routing designations shall be furnished within 60 days after establishment to the FMCSA.

(3)(i) FMCSA will consolidate information on the NRHM routing designations, make it available on its website, https://www.fmcsa.dot.gov/regulations/hazardous-materials/national-hazardous-materials-route-registry, and publish it annually in whole or as updates in the Federal Register.

(ii) Each State or Indian tribe may also publish this information in its official register of State or tribal regulations.

* * * * *

63. Amend § 397.103 by revising paragraphs (c)(3) and (d) to read as follows:

§ 397.103 Requirements for State routing designations.

* * * * *

(c) * * *

(3) The route is published in FMCSA's Hazardous Materials Route Registry, available on the FMCSA website, https://www.fmcsa.dot.gov/regulations/hazardous-materials/national-hazardous-materials-route-registry.

(d) A list of State-designated preferred routes and a copy of the “Guidelines for Selecting Preferred Highway Routes for Highway Route Controlled Quantity Shipments of Radioactive Materials” are available upon request to Federal Motor Carrier Safety Administration, Office of Enforcement and Compliance (MC-EC), 1200 New Jersey Ave. SE, Washington, DC 20590-0001, or by email to HMRouting@dot.gov.

PART 398—TRANSPORTATION OF MIGRANT WORKERS

64. The authority citation for part 398 continues to read as follows:

Authority: 49 U.S.C. 13301, 13902, 31132, 31133, 31136, 31502, and 31504; sec. 204, Pub. L. 104-88, 109 Stat. 803, 941 (49 U.S.C. 701 note); sec. 212, Pub. L. 106-159, 113 Stat. 1748, 1766; and 49 CFR 1.87.

65. Revise § 398.8 to read as follows:

§ 398.8 Administration inspection of motor vehicles in operation.

(a) Administration personnel authorized to perform inspections. All persons designated as Special Agents of the Federal Motor Carrier Safety Administration, as detailed in Appendix B of chapter III of this title, are authorized to enter upon and perform inspections of motor carrier's vehicles in operation.

(b) Prescribed inspection report. The “Driver/Vehicle Examination Report” shall be used to record findings from motor vehicles selected for final inspection by authorized Administration employees.

(c) Motor vehicles declared “out of service.” (1) Authorized Administration employees shall declare and mark “out of service” any motor vehicle which by reason of its mechanical condition or loading is so imminently hazardous to operate as to be likely to cause an accident or a breakdown. The “Out of Service Vehicle” sticker shall be used to mark vehicles “out of service.”

(2) No motor carrier shall require or permit any person to operate nor shall any person operate any motor vehicle declared and marked, “out of service” until all repairs required by the “out of service notice” on the “Driver/Vehicle Examination Report” have been satisfactorily completed. The term “operate” as used in this section shall include towing the vehicle; provided, however, that vehicles marked “out of service” may be towed away by means of a vehicle using a crane or hoist; and provided further, that the vehicle combination consisting of the emergency towing vehicle and the “out of service” vehicle meets the performance requirements of § 393.52 of this subchapter.

(3) No person shall remove the “Out of Service Vehicle” sticker from any motor vehicle prior to completion of all repairs required by the “out of service notice” on the “Driver/Vehicle Examination Report.”

(4) The person or persons completing the repairs required by the “out of service notice” shall sign the “Certification of Repairman” in accordance with the terms prescribed on the “Driver/Vehicle Examination Report,” entering the name of his/her shop or garage and the date and time the required repairs were completed. If the driver completes the required repairs, he/she shall sign and complete the “Certification of Repairman.”

(d) Motor carrier's disposition of the “Driver/Vehicle Examination Report.” (1) Motor carriers shall carefully examine the “Driver/Vehicle Examination Reports.” Any and all violations or mechanical defects noted thereon shall be corrected. To the extent drivers are shown not to be in compliance with the Federal Motor Carrier Safety Regulations, appropriate corrective action shall be taken by the motor carrier.

(2) Motor carriers shall complete the “Motor Carrier Certification of Action Taken” on the “Driver/Vehicle Examination Report” in accordance with the terms prescribed thereon. Motor carriers shall return the “Driver/Vehicle Examination Reports” to the address indicated on the report within fifteen (15) days following the date of the vehicle inspection.

Issued under the authority delegated in 49 CFR 1.87 on: May 9, 2018.
Raymond P. Martinez,
Administrator.

[FR Doc. 2018-10437 Filed 5-16-18; 8:45 am]

BILLING CODE 4910-EX-P